DEPARTMENT OF DEFENSE

Office of the Secretary

[Docket ID: DoD-2025-OS-0111]

Privacy Act of 1974; System of Records

AGENCY: Office of the Secretary of Defense, Department of Defense (DoD).

ACTION: Notice of a modified system of records.

SUMMARY: In accordance with the Privacy Act of 1974, the DoD is modifying and reissuing a current system of records titled, Military Spouse Education and Career Opportunities (SECO) and My Career Advancement Account Scholarship (MyCAA) Programs, DPR 46. This system of records was originally established by the Office of the Secretary of Defense for Personnel and Readiness to collect and maintain records on the SECO and MyCAA Programs, which make resources and tools available to help military spouses with career exploration and discovery, career education and training, employment readiness, and career connections at any point within the military spouse's career. This system of records notice (SORN) is being renamed Military Spouse Education, Career Opportunities, and Employment Partnership. This SORN modification consolidates and rescinds DPR 47 DoD, Military Spouse Employment Partnership (MSEP) Career Portal. DoD is publishing a separate notice to rescind DPR 47 elsewhere in today's issue of the Federal Register. Additionally, this SORN is being updated to incorporate the DoD standard routine uses (routine uses A through J) and to allow for additional disclosures outside DoD related to the purpose of this system of records. The DoD is also modifying various other sections within the SORN to improve clarity or update information that has changed.

DATES: This system of records is effective upon publication; however, comments on the Routine Uses will be accepted on or before August 13, 2025. The Routine Uses are effective at the close of the comment period.

ADDRESSES: You may submit comments, identified by docket number and title, by either of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 05F16, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Jessica Levin, Privacy and Civil Liberties Officer, Office of the Secretary of Defense for Personnel and Readiness, 703-697-2121, 4000 Defense Pentagon, Washington, DC 20301, email: osd.pentagon.ousd-p-r.mbx.ousdpr-privacy-and-foia-program@mail.mil.

SUPPLEMENTARY INFORMATION:

I. Background

The Military Spouse Education, Career Opportunities, and Employment Partnership system of records is used to support the operation of the SECO, MyCAA, and MSEP Programs. The records maintained within this system of records are used to assist military spouses with career exploration/discovery, career education and training, employment readiness, career coaching and connections, and financial assistance (education, training, testing, fees, etc). This SORN modification consolidates and rescinds DPR 47 DoD, Military Spouse Employment Partnership (MSEP) Career Portal (March 19, 2018, 83 FR 11994). A separate notice formally rescinding DPR 47 will be published elsewhere in today's issue of the Federal Register.

Subject to public comment, the DoD is updating this SORN to add the standard DoD routine uses (routine uses A through J) and to allow for additional disclosures outside DoD related to the purpose of this system of records. Additionally, the following sections of this SORN are being modified as follows: system name and number to better reflect all records maintained within the system of records, system location to reflect system modernization and cloud maintenance, system manager to reflect latest organizational titles and structure, authority for maintenance of the system to add additional authorities, purpose(s) of the system to reflect incorporation of MSEP program records, categories of records in the system to reflect the incorporation of MSEP program records and better explain the types of information collected, record source categories to reflect system updates, routine uses of records maintained in the system to account for the sharing of MSEP records, policies and practices for retrieval of records to update the information needed to retrieve a record to reflect the incorporation of MSEP program records, policies and practices for retention and disposal of records, administrative, technical, and physical safeguards, and notification procedures to update the individual safeguards protecting the personal information.

DoD SORNs have been published in the Federal Register and are available from the address in FOR FURTHER INFORMATION CONTACT or at the Office of the Assistant to the Secretary for Defense for Privacy, Civil Liberties, and Transparency (OATSD(PCLT)) website at https://dpcld.defense.gov/privacy.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, OATSD(PCLT) has provided a report of this system of records to the OMB and to Congress.

Dated: July 10, 2025.
Aaron T. Siegel,
Alternate OSD Federal Register Liaison Officer, Department of Defense.

SYSTEM NAME AND NUMBER:

Military Spouse Education, Career Opportunities, and Employment Partnership, DPR 46 DoD.

SECURITY CLASSIFICATION:

Unclassified.

SYSTEM LOCATION:

Information is stored within a government-certified cloud, implemented and overseen by the Department's Chief Information Officer (CIO), 6000 Defense Pentagon, Washington, DC 20301-6000.

SYSTEM MANAGER:

A. Under Secretary of Defense for Personnel and Readiness (USD/P&R), Office of the Deputy Assistant Secretary of Defense (DASD) for Military Community and Family Policy (MC&FP), Director, Office of Military Family Readiness Policy (OMFRP), 4800 Mark Center Drive, Suite 03G15, Alexandria, VA 22350-2300, email: osd.mc-alex.ousd-p-r.mbx.spouse-employment-team@mail.mil, phone: 571-372-5314.

B. Under Secretary of Defense for Personnel and Readiness (USD/P&R), Office of the Deputy Assistant Secretary of Defense (DASD) for Military Community and Family Policy (MC&FP), Director, Military Community Outreach (MCO) Directorate, 4800 Mark Center Drive, Alexandria, VA 22350-2300, email: osd.pentagon.ousd-p-r.mbx.mcfp-mcsp@mail.mil.

AUTHORITY FOR MAINTENANCE OF THE SYSTEM:

10 U.S.C. 136, Under Secretary of Defense for Personnel and Readiness; 10 U.S.C. 1144, Employment Assistance, Job Training Assistance, and Other Transitional Services: Department Of Labor; 10 U.S.C. 1782, Surveys of Military Families; 10 U.S.C. 1784, Employment opportunities for military spouses; 10 U.S.C. 1784a, Education and training opportunities for military spouses to expand employment and portable career opportunities; E.O. 13607, Establishing Principles of Excellence for Educational Institutions Serving Service members, Veterans, Spouses, and Other Family Members; and DoD Instruction 1342.22, Military Family Readiness.

PURPOSE(S) OF THE SYSTEM:

A. To support the operation of the Spouse Education and Career Opportunities (SECO) program, which is the primary source of education, career, employment counseling, and scholarship financial assistance for all military spouses, and the SECO website, which delivers the resources and tools necessary to assist military spouses with career exploration/discovery, career education and training, employment readiness, and career coaching and connections.

B. To support the operation of the My Career Advancement Account Scholarship (MyCAA) program, which provides a record of educational endeavors and progress of military spouses participating in education services and manages tuition assistance scholarship, tracks enrollments and funding, and facilitates communication with participants and educational/training institutions.

C. To support the operation of the Military Spouse Employment Partnership (MSEP) program, which connects military spouses with employers seeking to hire military spouse employees, via comprehensive information, tools, and resources. The information provided by military spouses allows MSEP Partner employers to fill available positions with their company with skilled military spouses.

D. To support statistical analysis, tracking, reporting, program effectiveness evaluations, research, and surveys to inform departmental decisions on military support and benefits policy.

CATEGORIES OF INDIVIDUALS COVERED BY THE SYSTEM:

Participating spouses of members of the United States Armed Forces (military spouses); and educational/training institution and employer partner points of contact.

CATEGORIES OF RECORDS IN THE SYSTEM:

A. Biographic, demographic, and other information to include: Name, DoD ID number, date of birth, race/ethnicity, contact information such as address, email address, and phone numbers; marital status and years as a military spouse; user account information and any unique identifying user number assigned to the military spouse.

B. Educational information to include: Education (degree level, additional degree details, field of study, dates, institution name, summary); certificates, credentials, and licenses (credential/certification name, date of receipt, state of receipt, institution name, summary); skills, abilities, and competencies; education training plan, career goal, and course/educational institution enrollment and status information; financial assistance information; academic evaluations and/or transcripts from schools, and education test results from testing agencies.

C. Employment information to include: Current job type, salary, and hourly wage; current pay grade; security clearance information; previous work experience; preferred job type, preferred industry of work, minimum desired salary and hourly wage; date planned to begin work; work experience (job title, company name, industry, employment dates, job description and duties, personal experience and achievements).

D. Military sponsor information to include: Name, DoD ID number, pay grade, current projected date of separation, branch of service, duty status and duty status end date, permanent change of station (PCS) location and dates, and time in service.

E. Employer and educational/training institution points of contact information to include: Name, telephone number, email address, physical address.

RECORD SOURCE CATEGORIES:

Records and information stored in this system of records are obtained from: Individual, Defense Enrollment Eligibility System (DEERS), Academic Institution Portal (AI Portal), schools, and testing agencies.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the Federal Government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State or local agency for the purpose of comparing to the agency's system of records or to non-Federal records, in coordination with an Office of Inspector General in conducting an audit, investigation, inspection, evaluation, or some other review as authorized by the Inspector General Act of 1978, as amended.

J. To such recipients and under such circumstances and procedures as are mandated by Federal statute or treaty.

K. To authorized DoD contractors and grantees for the purpose of supporting research studies concerned with the education of military spouses participating in DoD-funded spousal education programs in non-identifiable form.

L. To civilian educational institutions where the participant is enrolled for the purposes of ensuring correct enrollment and billing information.

M. To MSEP Partners for the purpose of searching for military spouse employment candidates.

N. To the Department of Veterans Affairs, Department of Education, Consumer Financial Protection Bureau, and Department of Justice for the purpose of ensuring prospective students are provided appropriate information regarding their options under, eligibility for, and costs associated with Federal military and veterans' educational benefits programs.

POLICIES AND PRACTICES FOR STORAGE OF RECORDS:

Records may be stored electronically or on paper in secure facilities in a locked drawer behind a locked door. The records may be stored on magnetic disc, tape, or digital media; in agency-owned cloud environments; or in vendor Cloud Service Offerings certified under the Federal Risk and Authorization Management Program (FedRAMP).

POLICIES AND PRACTICES FOR RETRIEVAL OF RECORDS:

Records may be retrieved by full name, email address, DoD ID, and/or username/profile number.

POLICIES AND PRACTICES FOR RETENTION AND DISPOSAL OF RECORDS:

A. SECO user accounts and records are deleted 5 years after notification of separation, retirement, or discharge of the spouse's sponsor/service member.

B. MyCAA records are destroyed 10 years after notification of separation, retirement, or discharge of the spouse's sponsor/service member.

C. MSEP records are destroyed or deleted when 5 years old or when no longer needed for operational purposes, whichever is later.

ADMINISTRATIVE, TECHNICAL, AND PHYSICAL SAFEGUARDS:

The DoD safeguards records in this system of records according to applicable rules, policies, and procedures, including all applicable DoD automated systems security and access policies. DoD policies require the use of controls to minimize the risk of compromise of personally identifiable information (PII) in paper and electronic form and to enforce access by those with a need to know and with appropriate clearances. Additionally, the DoD established security audit and accountability policies and procedures which support the safeguarding of PII and detection of potential PII incidents. The DoD routinely employs safeguards such as the following to information systems and paper recordkeeping systems: Multifactor log-in authentication including Common Access Card (CAC) authentication and password; physical token as required; physical and technological access controls governing access to data; network encryption to protect data transmitted over the network; disk encryption securing disks storing data; key management services to safeguard encryption keys; masking of sensitive data as practicable; mandatory information assurance and privacy training for individuals who will have access; identification, marking, and safeguarding of PII; physical access safeguards including multifactor identification physical access controls, detection and electronic alert systems for access to servers and other network infrastructure; and electronic intrusion detection systems in DoD facilities.

RECORD ACCESS PROCEDURES:

Individuals seeking access to their records should address written inquiries to the Office of the Secretary of Defense/Joint Staff Freedom of Information Act Requester Service Center, 1155 Defense Pentagon, Washington, DC 20301-1155. Signed written requests should contain the name and number of this system of records notice along with full name, DoD ID number, current address, telephone number, and email address of the individual. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial Component determinations are contained in 32 CFR part 310, or may be obtained from the system manager.

NOTIFICATION PROCEDURES:

Individuals seeking to determine whether information about themselves is contained in this system of records should follow the instructions for Record Access Procedures above.

EXEMPTIONS PROMULGATED FOR THE SYSTEM:

None.

HISTORY:

July 8, 2021, 86 FR 36124; May 21, 2018; 83 FR 23438.

[FR Doc. 2025-13141 Filed 7-11-25; 8:45 am]

BILLING CODE 6001-FR-P